Proclamation 10225 of June 1, 2021

National Immigrant Heritage Month, 2021

By the President of the United States of America

A Proclamation

America is, always has been, and always will be a Nation of immigrants. It was the premise of our founding; it is reflected in our Constitution; it is etched upon the Statue of Liberty—that “from her beacon-hand glows world-wide welcome.” During National Immigrant Heritage Month, we reaffirm and draw strength from that enduring identity and celebrate the history and achievements of immigrant communities across our Nation.

Across each generation throughout our history, wave after wave of immigrants have enriched our Nation and made us better, stronger, more innovative, and more prosperous. The American story includes the story of courageous families who ventured here—be it centuries ago, or just this year—from every part of the world to seek new possibilities and help to forge our Nation. In every era, immigrant innovators, workers, entrepreneurs, and community leaders have fortified and defended us, fed us and cared for us, advanced the limits of our thinking, and broken new ground.

After an especially difficult period marked by both the COVID-19 pandemic and the all-too-frequent demonization of immigrants, it is vital that our Nation reflect on the leadership, resilience, and courage shown by generations of immigrant communities, and recommit ourselves to our values as a welcoming Nation. We recognize all of the workers, many of whom are immigrants, who have contributed to the food security, health, and safety of all Americans during this challenging year—and every year. And we honor the sacrifices made by immigrants who serve on the front lines of the pandemic as health care providers, first responders, teachers, grocers, farm workers, and other essential workers. It was these same immigrant families and communities of color who were disproportionately struck by the virus. In honor of those we've lost, let us dedicate ourselves as a Nation to protecting one another and doing our part to put an end to this pandemic for good.

The promise of our Nation is that every American has a fair shot and an equal chance to get ahead, yet systemic racism and persistent barriers have denied this promise to far too many immigrants throughout our history and today. I have placed equity at the center of my Administration's agenda. From day one, I promised that my Administration would reflect the full diversity of our Nation—and today, nearly one-third of my Administration's 1,500 political appointees are naturalized U.S. citizens or children of immigrants.

I have directed Federal agencies to rebuild trust in our immigration system that has been lost, to reach out to underserved communities unable to access the opportunities our Nation offers them, to offer again a welcoming humanitarian hand to the persecuted and oppressed, and to reduce barriers to achieving citizenship and equality.

I am honored to serve alongside Vice President Harris, the first daughter of immigrants to hold the Office of the Vice President, and to work with so many dedicated public servants who are immigrants—and who carry with them every day the legacies of their families' sacrifice and resilience.

Despite the progress our Nation has made since our founding, there is more work to be done to extend the full promise of America to all our people. Nearly 11 million people in this country are undocumented—and it is time that the Congress acts by passing the U.S. Citizenship Act of 2021, the immigration reform plan that I introduced on day one of my Presidency. My plan would provide a pathway to lawful permanent residency and citizenship for these undocumented immigrants, including Dreamers, individuals with Temporary Protected Status, farm workers, and other essential workers who contribute to our Nation every day.

Vice President Harris and I affirm that immigrants historically have made and continue to make our Nation stronger. I urge my fellow Americans to join us this month in celebrating immigrant heritage, stories, and cultures.

NOW, THEREFORE, I, JOSEPH R. BIDEN JR., President of the United States of America, by virtue of the authority vested in me by the Constitution and the laws of the United States, do hereby proclaim June 2021 as National Immigrant Heritage Month. I call upon the people of the United States to learn more about the history of immigrant communities throughout the generations following our Nation's founding, and to observe this month with appropriate programming and activities.

IN WITNESS WHEREOF, I have hereunto set my hand this first day of June, in the year of our Lord two thousand twenty-one, and of the Independence of the United States of America the two hundred and forty-fifth.

[FR Doc. 2021-11978

Filed 6-4-21; 8:45 am]

Billing code 3295-F1-P